DEPARTMENT OF COMMERCE

International Trade Administration

[A-533-810]

Stainless Steel Bar from India: Extension of Time Limit for the Final Results of the Antidumping Duty Administrative Review

AGENCY: Import Administration, International Trade Administration, Department of Commerce.

SUMMARY: The Department of Commerce is extending the time limit for the final results of the administrative review of the antidumping duty order on stainless steel bar from India. The period of review is February 1, 2003, through January 31, 2004. This extension is made pursuant to section 751(a)(3)(A) of the Tariff Act of 1930, as amended by the Uruguay Round Agreements Act.

EFFECTIVE DATE: June 1, 2005.

FOR FURTHER INFORMATION CONTACT: Scott Holland, AD/CVD Operations, Office 1, Import Administration, International Trade Administration, U.S. Department of Commerce, 14th Street and Constitution Avenue, NW, Washington DC 20230; telephone (202) 482-1279.

SUPPLEMENTARY INFORMATION:

Background

On March 7, 2005, the Department of Commerce (“the Department”) published the preliminary results of the administrative review of the antidumping duty order on stainless steel bar from India covering the period February 1, 2003, through January 31, 2004 (70 FR 10977). The final results for the antidumping duty administrative review of stainless steel bar from India are currently due no later than July 5, 2005.

Extension of Time Limits for Final Results

Section 751(a)(3)(A) of the Tariff Act of 1930, as amended by the Uruguay Round Agreements Act (“the Act”), requires the Department to issue the preliminary results of an administrative review within 245 days after the last day of the anniversary month of an antidumping duty order for which a review is requested and issue the final results within 120 days after the date on which the preliminary results are published. However, if it is not practicable to complete the review within the time period, section 751(a)(3)(A) of the Act allows the Department to extend these deadlines to a maximum of 365 days and 180 days, respectively.

On March 28, 2005, the sole respondent in this proceeding, Chandan Steel, Ltd. (“Chandan”), submitted new factual information that included previously unreported sales of the subject merchandise to the United States five days prior to the scheduled sales and cost verification. This information was significant to the Department's conduct of verification and understood fully before the Department could conduct verification and as a result, the Department postponed the verification. On May 12, 2005, the Department rejected the March 28, 2005, submission because we determined that the new information contained in the submission represented new and untimely filed factual information. See Letter from Susan H. Kuhbach to Peter Koenig, dated May 12, 2005.

In accordance with 782(i)(3) of the Act, the Department must still conduct the verification and issue the verification findings. Therefore, we find that it is not practicable to complete this review within the originally anticipated time limit (i.e., by July 5, 2005). Accordingly, the Department is extending the time limit for completion of the final results to no later than August 25, 2005, in accordance with section 751(a)(3)(A) of the Act.

We are issuing and publishing this notice in accordance with sections 751(a)(1) and 777(i)(1) of the Act.

Dated: May 24, 2005.
Barbara E. Tillman,
Acting Deputy Assistant Secretary for Import Administration.

[FR Doc. E5-2769 Filed 5-31-05; 8:45 am]

BILLING CODE 3510-DS-S